DEPARTMENT OF DEFENSE

Office of the Secretary

[Transmittal No. 15-51]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-51 with attached Policy Justification and Sensitivity of Technology.

Dated: November 23, 2015.
Aaron Siegel,
Alternate OSD Federal Register Liaison Officer, Department of Defense.

BILLING CODE 5001-06-C

BILLING CODE 5001-06-P

Transmittal No. 15-51 Notice of Proposed Issuance of Letter of Offer Pursuant to Section 36(b)(1) of the Arms Export Control Act, as amended

(i) Prospective Purchaser: United Arab Emirates

(ii) Total Estimated Value:

(U) Major Defense Equipment* | $ 365.0 million
(U) Other | $ 15.0 million
(U) TOTAL | $ 380.0 million

(iii) Description and Quantity or Quantities of Articles or Services under Consideration for Purchase: Major Defense Equipment (MDE) includes:

Three thousand two hundred and fifty (3250) GBU-31V1 (KMU-556 Joint Direct Attack Munitions (JDAM) kits)

Three thousand two hundred and fifty (3250) MK-84/BLU-117 bombs

Seven hundred and fifty (750) GBU-31V3 (KMU-557 JDAM kits)

Seven hundred and fifty (750) BLU-109 bombs

One thousand (1000) GBU-12 Paveway II Laser Guided bomb kits

One thousand and two (1002) MK-82/BLU-111 bombs

Four thousand two hundred and fifty (4,250) FMU-152 fuzes

Two hundred and sixteen (216) GBU-24 tail kits (BSU-84)

This sale also includes non-MDE related munitions items (fuzes and bomb components), sustainment, and support.

(iv) Military Department: USAF: AE-D-AAF

(v) Prior Related Cases, if any:

FMS Case SAA $113M SEP 98, APR 00, MAY 01

FMS Case YAB $156M SEP 98, MAY 01

FMS Case YAC $874M SEP 98, MAY 01, DEC 07, DEC 09, JUN 11

FMS Case AAC $13M JUN 11

FMS Case AAD $11.8M JAN 15

FMS Case AAE $130M MAY15

(vi) Sales Commission, Fee, etc., Paid, Offered, or Agreed to be Paid: None

(vii) Sensitivity of Technology Contained in the Defense Article or Defense Services Proposed to be Sold: See Attached Annex

(viii) Date Report Delivered to Congress: 04 NOV 2015

* As defined in Section 47(6) of the Arms Export Control Act.

POLICY JUSTIFICATION

United Arab Emirates (UAE) Joint Direct Attack Munitions (JDAM), Sustainment and Support

The United Arab Emirates requested approval to procure 3250 GBU-31V1 (KMU-556 JDAM kit) with 3250 MK-84/BLU-117 bombs, 750 GBU-31V3 (KMU-557 JDAM kit) with 750 BLU-109 bombs, 1000 GBU-12 with 1002 MK-82/BLU-111 bombs, 4,250 FMU-152 fuzes, and 216 GBU-24 tail kits (BSU-84). The sale also includes non-MDE related munitions items (fuzes and bomb components), sustainment, and support. The estimated total case value is $380 million.

This proposed sale contributes to the foreign policy and national security of the United States by helping the UAE remain an active member of the OPERATION INHERENT RESOLVE (OIR) coalition working to defeat the Islamic State in Iraq and Levant (ISIL) and as part of the Saudi-led coalition to restore the legitimate government in Yemen. These munitions will sustain the UAE's efforts and support a key partner that remains an important force for political stability and economic progress in the Middle East.

The proposed sale provides the UAE additional precision guided munitions capability to meet the current threat. The UAE continues to provide host-nation support of vital U.S. forces stationed at Al Dhafra Air Base and plays a vital role in supporting U.S. regional interests. The UAE was a valued partner and an active participant in OPERATION IRAQI FREEDOM (OIF), OPERATION ENDURING FREEDOM (OEF), OPERATION UNIFIED PROTECTOR (OUP), and now is a valued partner in OIR coalition operations.

The proposed sale will not alter the basic military balance in the region.

The prime contractors will be determined during the contracting process. There are no known offset agreements proposed in connection with this potential sale.

Implementation of this sale entails periodic Program Management Reviews in the United States or UAE. There are no additional U.S. Government or contractor representatives anticipated to be stationed in the UAE as a result of this potential sale.

There will be no adverse impact on U.S. defense readiness as a result of this proposed sale.

Transmittal No. 15-51

Notice of Proposed Issuance of Letter of Offer Pursuant to Section 36(b)(1) of the Arms Export Control Act

Annex

Item No. vii

(vii) Sensitivity of Technology:

1. GBU-31 Joint Direct Attack Munition (JDAM) is a 2000-lb guidance tail kit that converts unguided free-fall bombs into accurate, Global Positioning System (GPS)-guided adverse weather “smart” munitions. With the addition of a new tail section that contains an inertial navigational system (INS) and a GPS guidance control unit, JDAM improves the accuracy of unguided, general-purpose (GP) bombs in any weather condition. The GBU-31V1 contains a KMU-556 JDAM tail, a general purpose 2000-lb BLU-117 or MK-84 bomb body and a fuse. The GBU-31V3 contains a KMU-557 JDAM tail, a 2000-lb BLU-109 penetrator bomb body and a fuse. The highest classification for the JDAM, its components, and technical data is SECRET. In addition to the JDAM tail kit, access to accurate target coordinates, INS/GPS capability, and operational test and evaluation plan are essential for successful employment.

2. GBU-12 is a 500-lb laser-guided ballistic bomb (LGB). The LGB is a maneuverable, free-fall weapon that guides to a spot of laser energy reflected off of the target. The LGB is delivered like a normal GP warhead and the semi-active guidance corrects for many of the normal errors inherent in any delivery system. Laser designation for the weapon can be provided by a variety of laser target markers or designators. The GBU-12 LGB consists of a laser guidance kit, a computer control group (CCG) and a warhead specific Air Foil Group (AFG), that attach to the nose and tail of MK-82 or BLU-111 500-lb GP bomb body and a fuse. The overall weapon is CONFIDENTIAL.

3. GBU-24 is a 2000-lb laser-guided ballistic bomb (LGB). The LGB is a maneuverable, free-fall weapon that guides to a spot of laser energy reflected off of the target. The LGB is delivered like a normal GP warhead and the semi-active guidance corrects for many of the normal errors inherent in any delivery system. Laser designation for the weapon can be provided by a variety of laser target markers or designators. The GBU-24 LGB consists of a laser guidance kit, a computer control group (CCG) and a warhead specific BSU-84 Air Foil Group (AFG), that attaches to the tail of a MK-84 or BLU-117 2000-lb GP bomb body. The overall weapon is SECRET.

4. If a technologically advanced adversary were to obtain knowledge of the specific hardware and software elements, the information could be used to develop countermeasures which might reduce weapon system effectiveness or be used in the development of a system with similar or advanced capabilities.

5. A determination has been made that the recipient country can provide substantially the same degree of protection of sensitive technology being released as the U.S. Government. This sale is necessary in furtherance of U.S. foreign policy and national security objectives outlined in the Policy Justification. All defense articles and services listed in this transmittal have been authorized for release and export to the United Arab Emirates.

6. This sale is necessary in furtherance of the U.S. foreign policy and national security objectives outlined in the Policy Justification. Moreover, the benefits to be derived from this sale, as outlined in the Policy Justification, outweigh the potential damage that could result if the sensitive technology were revealed to unauthorized persons.

[FR Doc. 2015-30195 Filed 11-25-15; 8:45 am]

BILLING CODE 5001-06-P